DEPARTMENT OF TRANSPORTATION

Federal Transit Administration

Notice of Limitation on Claims Against a Proposed Public Transportation Project

AGENCY: Federal Transit Administration (FTA), DOT.

ACTION: Notice of limitation on claims.

SUMMARY: This notice announces final environmental action taken by the Federal Transit Administration (FTA) for the Mid-City/Exposition Transit Corridor Light Rail Transit Project in Los Angeles, California. The purpose of this notice is to announce the decision by FTA to not perform supplemental review under the National Environmental Policy Act (NEPA) on the subject project and to activate the limitation on any claims that may challenge this final agency action. This notice does not alter or extend the limitation period of 180 days for challenge of project decisions subject to a previous notice published in the Federal Register on August 17, 2006.

DATES: By this notice, FTA is advising the public of final agency action subject to Title 23, United States Code (U.S.C.), section 139(l). A claim seeking judicial review of the FTA action announced herein for the listed public transportation project will be barred unless the claim is filed on or before September 23, 2009.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency action by issuing certain approvals for the public transportation project listed below. This notice applies to all FTA decisions on the listed project since FTA published its notice concerning this project in the Federal Register on August 17, 2006, and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q]. This notice describes the discrete action taken for which the 180-day statute of limitations will apply. Nothing in this notice affects FTA's previous decisions, or notice thereof, for this project.

The final agency environmental decision documents—the Record of Decision (ROD) and the ROD Addendum—for the listed project are available online at http://www.fta.dot.gov/planning/environment/planning_environment_documents.html or may be obtained by contacting the FTA Regional Office for the metropolitan area where the project is located. Contact information for the FTA Regional Offices may be found at http://www.fta.dot.gov.

The project and action that are the subject of this notice are:

Project name and location: Mid-City/Exposition Transit Corridor Light Rail Transit (LRT) Project, Los Angeles, California. Project sponsor: Los Angeles County Metropolitan Transportation Authority (LACMTA). Project description: The Mid-City/Exposition Corridor Project is an LRT project that will run 8.6 miles from 7th Street/Metro Center Station in downtown Los Angeles to the intersection of Venice and Robertson Boulevards in Culver City. The LRT will operate in a dual-track configuration mainly at-grade on existing streets or in a street-median right-of-way owned by LACMTA. The project includes nine new LRT stations and three grade separations: one below grade segment at Flower and Figueroa Streets; an aerial segment at La Brea Avenue; and an aerial segment at La Cienega Boulevard, extending over Jefferson Boulevard and the Ballona Creek to Fay Avenue in Culver City. Final Agency Actions: FTA has reviewed information provided by LACMTA on project enhancements proposed since the FTA issued the ROD on February 24, 2006. These project enhancements include the addition of the new University of Southern California (USC)/Expo Park station adjacent to the U.S.C. campus and Expo Park museums near downtown Los Angeles, the addition of the new aerial Venice/Robertson Station and Structure at the eastern terminus in Culver City to replace the interim at-grade Washington/National Station, and the addition of a Storage and Inspection facility. The Storage and Inspection facility will supplement the planned Mid-day Layover facility and replace the Operations and Maintenance facility that was originally planned to be located on property adjacent to the existing Metro Division 11 facility in Carson, California. The newly added USC/Expo Park station and the newly added aerial Venice/Robertson Station were fully evaluated in the Final Environmental Impact Statement/Environmental Impact Report (EIS/EIR). The Storage and Inspection Facility was evaluated pursuant to 23 CFR Section 771.130(c), and approved in subsequent action whereby FTA determined that no new or changed significant impacts from those evaluated in the Final EIS/EIR would occur. Supporting documentation: ROD Addendum signed on March 10, 2009 and the Mid-City/Exposition Transit Corridor Light Rail Transit Project Final EIS/EIR.

Issued on: March 20, 2009.
Susan Borinsky,
Associate Administrator for Planning and Environment, Washington, DC.

[FR Doc. E9-6803 Filed 3-26-09; 8:45 am]

BILLING CODE 4910-57-P